DEPARTMENT OF THE INTERIOR

National Park Service

[NPS-WASO-NAGPRA-NPS0029870; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Office of the State Archaeologist Bioarchaeology Program. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Office of the State Archaeologist Bioarchaeology Program at the address in this notice by April 22, 2020.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the Office of the State Archaeologist Bioarchaeology Program, Iowa City, IA. The human remains were removed from Belle Glade Mound (8PB41) in Palm Beach County, FL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Office of the State Archaeologist Bioarchaeology Program professional staff in consultation with representatives of the Miccosukee Tribe of Indians; Seminole Tribe of Florida (previously listed as the Seminole Tribe of Florida (Dania, Big Cypress, Brighton, Hollywood & Tampa Reservations)); and The Seminole Nation of Oklahoma (hereafter referred to as “The Tribes”).

History and Description of the Remains

In 1933-1934, human remains representing, at minimum, 35 individuals were removed from Belle Glade Mound (8PB41) in Palm Beach County, FL. The human remains were excavated as part of the Federal Relief Projects. Originally, all of the skeletal remains from this excavation were housed at the Smithsonian Institution in Washington, DC. In 1973, a portion of the Belle Glade material culture was deaccessioned and transferred to the Iowa State University Archaeological Laboratory (ISUAL). The transferred human remains were given accession numbers 8-1 to 8-12, 8-14, 8-16 to 8-18, 8-20, 8-22 to 8-44, 8-46 to 8-51, 8-57, 8-59 to 8-81, 8-83, 8-85, 8-87, 8-89 to 8-91, 8-93, 8-95 to 105, 8-107 to 8-114, 8-116 to 8-134, and 8-136. In 1994, the ISUAL transferred the human remains to the Office of the State Archaeologist Bioarchaeology Program. At least 25 adults, including two possible males and five possible females, are represented by the human remains. Additionally, long bones representing 10 juveniles ranging in age from six months to 13.5 years are present (Burial Project 753). No known individuals were identified. No associated funerary objects are present.

Belle Glade mound is the type site for the Belle Glade culture in Florida, which may have spanned the period from 1000 B.C. to A.D. 1700. Currently, the cultural affiliation of human remains from Belle Glade sites cannot be determined.

Determinations Made by the Office of the State Archaeologist Bioarchaeology Program

Officials of the Office of the State Archaeologist Bioarchaeology Program have determined that:

• Pursuant to 25 U.S.C. 3001(9), the human remains described in this notice are Native American based on excavation context.

• Pursuant to 25 U.S.C. 3001(9), the human remains described in this notice represent the physical remains of 35 individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Dr. Lara Noldner, Office of the State Archaeologist Bioarchaeology Program, University of Iowa, 700 S Clinton Street, Iowa City, IA 52242, telephone (319) 384-0740, email lara-noldner@uiowa.edu, by April 22, 2020. After that date, if no additional requestors have come forward, transfer of control of the human remains to The Tribes may proceed.

The Office of the State Archaeologist Bioarchaeology Program is responsible for notifying The Tribes that this notice has been published.

Dated: February 18, 2020.
Melanie O'Brien,
Manager, National NAGPRA Program.

[FR Doc. 2020-06036 Filed 3-20-20; 8:45 am]

BILLING CODE 4312-52-P